DEPARTMENT OF ENERGY

Federal Energy Regulatory Commission

[Docket No. RP21-144-000]

Eastern Gas Transmission & Storage, Inc.; Notice of Technical Conference

Take notice that a virtual technical conference will be held on January 28, 2021, at 10:00 a.m. (EST) to discuss comments and protests filed in the proceeding captioned above.

At the technical conference, the parties to the proceeding should be prepared to discuss all issues set for technical conference as established in the November 30, 2020 Order (Dominion Energy Transmission, Inc., 173 FERC 61,188 (2020)).

Commission conferences are accessible under section 508 of the Rehabilitation Act of 1973. For accessibility accommodations, please email accessibility@ferc.gov or call toll free 1-866-208-3372 (voice) or 202-502-8659 (TTY); or send a fax to 202-208-2106 with the required accommodations.

All interested parties are invited to participate remotely. Staff will use the WebEx platform to view and present supporting documents related to this docket. For more information, please contact Brandon Henke at brandon.henke@ferc.gov or call 202-502-8386 by January 21, 2021, to register and to receive specific instructions on how to participate in the technical conference.

Dated: December 16, 2020.
Kimberly D. Bose,
Secretary.

[FR Doc. 2020-28234 Filed 12-21-20; 8:45 am]

BILLING CODE 6717-01-P